DEPARTMENT OF DEFENSE

Department of the Army, Corps of Engineers

Newmarket Creek CAP Section 205, City of Hampton, VA, NEPA Scoping Meeting and Public Comment Period

AGENCY: Department of the Army, U.S. Army Corps of Engineers, DoD.

ACTION: NEPA Scoping meeting and public comment period.

SUMMARY: Pursuant to the requirements of section 102(2)(C) of the National Environmental Policy Act (NEPA) of 1969, as amended, 42 U.S.C. 4321-4370, as implemented by the Council on Environmental Quality Regulations (40 CFR parts 1500-1508), the U.S. Army Corps of Engineers (USACE) plans to prepare a Feasibility Study with an integrated Environmental Assessment (EA) to evaluate environmental impacts from reasonable project alternatives and to determine the potential for significant impacts related to an evaluation of structural and non-structural measures that could be implemented as a part of a Federal project, under the Section 205 Continuing Authorities Program (CAP), to reduce the flood risk in the portion of the Newmarket Creek watershed within the City boundaries. The Newmarket Creek watershed is subject to flooding from both rainfall and tidal events, and there is a history of flood damage within the watershed. If the USACE determines that there is a potential for a significant environmental impact, the USACE will issue a Notice of Intent to prepare an Environmental Impact Statement in the Federal Register.

DATES: Scoping comments may be submitted until July 14, 2016.

ADDRESSES: The public is invited to submit NEPA scoping comments at the meeting and/or submit comments to Mr. David Schulte, Department of the Army, U.S. Army Corps of Engineers, Norfolk District, Fort Norfolk, 803 Front St., Norfolk, VA 23510 or via email: David.M.Schulte@usace.army.mil. The project title and the commenter's contact information should be included with submitted comments.

FOR FURTHER INFORMATION CONTACT: David Schulte, (757) 201-7007.

SUPPLEMENTARY INFORMATION: The Newmarket Creek watershed is subject to flooding from both rainfall and tidal events, and there is a history of flood damage within the watershed. USACE is investigating measures to reduce future flood risk in ways that support the long‐term resilience and sustainability of the surrounding communities, and reduce the economic costs and risks associated with flood and tidal events.

USACE is the lead federal agency and the city of Hampton will be the non-federal sponsor for the study. The city of Hampton has experienced an accelerating increase in nuisance flooding due to storms and tidal events of varying magnitude, with large storms (nor'easters and hurricanes) often causing major flooding in many areas of the City. The feasibility study will address potential structural and non-structural alternatives to mitigate impacts from flooding and determining the Federal interest in cost-sharing for those alternatives.

As required by Council on Environmental Quality's Principles, Requirements and Guidelines for Water and Land Related Resources Implementation Studies all reasonable alternatives to the proposed Federal action that meet the purpose and need will be considered in the EA. These alternatives will include no action and a range of reasonable alternatives for reducing flood risk within the Newmarket Creek and its watershed within the city of Hampton.

Scoping/Public Involvement. The public NEPA scoping meeting will be held on July 14, 2016, from 5 p.m.-8 p.m. It will be held at the West Hampton Community Center, 1638 Briarfield Rd., Hampton, VA 23661. Federal, state, and local agencies, Indian tribes, and the public are invited to provide scoping comments to identify issues and potentially significant effects to be considered in the analysis.

Brenda S. Bowen,
Army Federal Register Liaison Officer.

[FR Doc. 2016-13817 Filed 6-10-16; 8:45 am]

BILLING CODE 3720-58-P